DEPARTMENT OF TRANSPORTATION

Federal Aviation Administration

14 CFR Part 71

[Docket No. FAA-2003-16457; Airspace Docket No. 03-ASO-4]

RIN 2120-AA66

Proposed Revision of Federal Airway V-521

AGENCY: Federal Aviation Administration (FAA), DOT.

ACTION: Proposed rule; withdrawal.

SUMMARY: This action withdraws the notice of proposed rulemaking (NPRM) published in the Federal Register on January 14, 2004 (69 FR 2091). In that notice the FAA proposed to revise a segment of Very High Frequency Omnidirectional Range (VOR) Federal Airway 521 (V-521), between the Lee County Very High Frequency Omnidirectional Range/Tactical Air Navigation (VORTAC), and the RINSE intersection. The change was proposed to support the development of a new Standard Terminal Arrival Route (STAR) to serve the Southwest Florida International Airport and the Page Field Airport at Fort Myers, FL. However, after an internal review, the FAA has decided not to implement the planned STAR, therefore, the proposed revision of V-521 is being withdrawn upon publication of this action.

EFFECTIVE DATE: 0901 UTC, April 8, 2004.

FOR FURTHER INFORMATION CONTACT: Paul Gallant, Airspace and Rules, Office of System Operations and Safety, ATO-R, Federal Aviation Administration, 800 Independence Avenue, SW., Washington, DC 20591; telephone: (202) 267-8783.

SUPPLEMENTARY INFORMATION: On January 14, 2004, an NPRM was published in the Federal Register (69 FR 2091) proposing to amend Title 14 Code of Federal Regulations (14 CFR) part 71 (part 71) to revise a segment of V-521 between the Lee County VORTAC and the RINSE intersection. The change was proposed to support the development of a new STAR to serve the Southwest Florida International Airport and Page Field Airport at Fort Myers, FL. These changes were planned as part of an airspace redesign effort to enhance the management of air traffic operations into and out of southwest Florida.

After an internal review of the plan, the FAA has decided not to implement the planned STAR. Consequently, the proposed revision to V-521 is being withdrawn upon publication of this action.

List of Subjects in 14 CFR Part 71

Airspace, Incorporation by reference, Navigation (air).

The Withdrawal

In consideration of the foregoing, the NPRM, Docket No. FAA-2003-16457/Airspace Docket No. 03-ASO-4, as published in the Federal Register on January 14, 2004 (69 FR 2091), is hereby withdrawn.

Authority: 49 U.S.C. 106(g), 40103, 40113, 40120; E.O. 10854, 24 FR 9565, 3 CFR, 1959-1963 Comp., p. 389.

* * * * *

Issued in Washington, DC, on April 1, 2004.
Reginald C. Matthews,
Manager, Airspace and Rules Division.

[FR Doc. 04-7958 Filed 4-7-04; 8:45 am]

BILLING CODE 4910-13-P